DEPARTMENT OF ENERGY

Federal Energy Regulatory Commission

[Docket No. RP04-344-000]

ANR Pipeline Company; Notice of Tariff Filing

June 28, 2004.

Take notice that on June 24, 2004, ANR Pipeline Company (ANR) tendered for filing, as part of its FERC Gas Tariff, Second Revised Volume No. 1, the following tariff sheets proposed to become effective July 1, 2004:

Fifty-Eighth Revised Sheet No. 8

Fifty-Eighth Revised Sheet No. 9

Fifty-Seventh Revised Sheet No. 13

Seventieth Revised Sheet No. 18

ANR states that the above-referenced tariff sheets are being filed to reduce the Dakota Gasification Company (Dakota) reservation and commodity surcharges to $0.00 as of July 1, 2004. ANR projects that as of June 30, 2004, it will have fully recovered all the Dakota above-market costs and buyout costs that it has been authorized to collect. ANR requests that it be permitted to eliminate the Dakota surcharges immediately to avoid any further overcollections.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1482 Filed 7-6-04; 8:45 am]

BILLING CODE 6717-01-P